DEPARTMENT OF EDUCATION

Notice of Proposed Information Collection Requests

AGENCY: Department of Education.

ACTION: Notice of proposed information collection requests.

SUMMARY: The Leader, Regulatory Information Management, Office of the Chief Information Officer, invites comments on the proposed information collection requests as required by the Paperwork Reduction Act of 1995.

DATES: An emergency review has been requested in accordance with the Act (44 U.S.C. Chapter 3507 (j)), since public harm is reasonably likely to result if normal clearance procedures are followed. Approval by the Office of Management and Budget (OMB) has been requested by April 8, 2002. A regular clearance process is also beginning. Interested persons are invited to submit comments on or before May 21, 2002.

ADDRESSES: Written comments regarding the emergency review should be addressed to the Office of Information and Regulatory Affairs, Attention: Karen Lee, Desk Officer: Department of Education, Office of Management and Budget; 725 17th Street, NW., Room 10235, New Executive Office Building, Washington, DC 20503 or should be electronically mailed to the internet address Karen_F._ Lee@omb.eop.gov.

SUPPLEMENTARY INFORMATION: Section 3506 of the Paperwork Reduction Act of 1995 (44 U.S.C. Chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Leader, Information Management Group, Office of the Chief Information Officer, publishes this notice containing proposed information collection requests at the beginning of the Departmental review of the information collection. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. ED invites public comment. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on respondents, including through the use of information technology.

Dated: March 18, 2002.
John D. Tressler,
Leader, Regulatory Information Management, Office of the Chief Information Officer.

Office of Elementary and Secondary Education

Type of Review: New collection.

Title: Application Package for LEAs under the REAP Rural and Low-Income School Program (KA)

Abstract: This information collection package collection will serve as the application package for LEAs under the REAP Rural and Low-Income School Program. This application package will be used by LEAs applying for benefits under this program in States where the SEA chooses not to participate in the program.

Additional Information: The Department is requesting an emergency clearance for the LEA Application for the Rural and Low-Income School Program by March 22, 2002 due to the unanticipated event and potentially causing public harm if awards were not made in time. This is a state-administered formula grant program under the statute. The Secretary is to award formula grants to SEAs, which in turn must award subgrants to eligible LEAs either competitively or on a formula basis. However, the statute makes provisions in the event an SEA chooses not to participate in the program. In such cases, the Secretary may use the SEA's allotment to award grants directly to eligible LEAs in that State either competitively or by formula. Eligible LEAs in non-participating States are referred to as “specially qualified agencies” in the legislation. Some SEAs have recently indicated that they may choose not to participate in this program. The application package that is the subject of this emergency clearance will be used to make direct grants to LEAs in those states, should it be necessary. If normal procedures were to be followed, the Department would not be able to make grant awards under this program by July 1st. The Rural and Low-Income program is one of the programs covered under the Consolidated Application provisions in the No Child Left Behind Act. The Department cannot make allocations for any applicant (either State or LEA) until all eligible applicants have submitted their allocation and eligibility data to the Department, and therefore the need for emergency processing.

Frequency: Annually.

Affected Public: State, Local, or Tribal Gov't, SEAs or LEAs (primary).

Reporting and Recordkeeping Hour Burden:

Responses: 200.

Burden Hours: 2400.

Requests for copies of the proposed information collection request may be accessed from http://edicsweb.ed.gov, by selecting “Browse Pending Collections” and clicking on link number 1984. When you access the information collection, click on “Download Attachments” to view. Written requests for information should be addressed to Vivian Reese, Department of Education, 400 Maryland Avenue, SW., Room 4050, Regional Office Building 3, Washington, DC 20202-4651 or to the e-mail address vivian.reese@ed.gov. Requests may also be electronically mailed to the internet address OCIO_RIMG@ed.gov or faxed to 202-708-9346. Please specify the complete title of the information collection when making your request.

Comments regarding burden and/or the collection activity requirements should be directed to Kathy Axt at 540-776-7742. Individuals who use a telecommunications device for the deaf (TDD) may call the Federal Information Relay Service (FIRS) at 1-800-877-8339.

[FR Doc. 02-6916 Filed 3-21-02; 8:45 am]

BILLING CODE 4000-01-U